DEPARTMENT OF THE INTERIOR

Bureau of Reclamation

Bostwick Division, Frenchman-Cambridge Division, and Kanaska Division, Almena Unit INT-DEIS-99-39

AGENCY: Bureau of Reclamation, Interior.

ACTION: Notice to reopen comment period for draft environmental impact statement (DEIS) and announce schedule for public workshop and public meeting.

SUMMARY: Pursuant to section 102(2)(C) of the National Environmental Policy Act of 1969, as amended, the Department of the Interior, Bureau of Reclamation (Reclamation), prepared a DEIS for the renewal of long-term water supply contracts for continued delivery of irrigation water from Federal projects in the Republican River basin in Nebraska and Kansas. The DEIS described five alternatives, including no action and a preferred alternative, and evaluated the environmental consequences of renewing the long-term water supply contracts and of modifications to reservoir operations. Public hearings were held in Nebraska and Kansas to receive public comment on the DEIS.

The Corps of Engineers (Corps), along with other Federal, State, and local entities, is a cooperating agency in the water supply contract renewal process. Harlan County Lake in Nebraska is owned by the United States and managed by the Corps. Following completion of the initial 60-day public review and comment period, Reclamation and the Corps continued to receive public comment concerning alternative operations at Harlan County Lake. The magnitude of these comments prompted Reclamation and the Corps to allow additional time for all interested parties to provide comments on the water supply contract renewal process.

DATES: A 30-day public review and comment period commences with the publication of this notice. Written comments on the DEIS or the Corps' technical report should be submitted by April 21, 2000.

Written comments from interested parties unable to attend the hearing, those not wanting to make oral presentations, or those wishing to supplement their oral presentations at the public hearing should be transmitted to the Nebraska-Kansas Area Office by April 21, 2000, for inclusion in the public record.

A joint Reclamation/Corps public meeting has been scheduled to begin at 7 p.m. on April 12, 2000. An informal public workshop has also been scheduled from 10 a.m. to 4 p.m.

ADDRESSES: The meeting and workshop will be held at the Johnson Community Center, 509 Main Street, in Alma, Nebraska.

Written comments on Reclamation's DEIS should be submitted to the Area Manager (Attention: Judy O'Sullivan), Nebraska-Kansas Area Office, P.O. Box 1607, Grand Island NE 68802. Written comments on the Corps' technical report should be submitted to District Engineer, U.S. Army Corps of Engineers, Kansas City District, 700 Federal Building, 601 East Twelfth Street, Kansas City MO 64106-2896.

You may request a Summary of the DEIS, the entire DEIS (with appendices) in printed copy or on computer disk, or the Corps' technical report. Copies may be obtained from the above address or by telephone (308) 389-4622 x211. The DEIS and technical report is available for public inspection and review on Reclamation's Internet site at “www.gp.usbr.gov” in the “Current Activities” section under “Environmental Activities.” In addition, the technical report can be viewed at the two Corps' Internet sites “www.nwk.usace.army.mil” and “www.nwk.usace.army.mil/haco/harlan_home.htm”

See Supplementary Information section for additional addresses where the DEIS and/or technical report are available for public inspection and review.

FOR FURTHER INFORMATION CONTACT: Jill Manring, Basin Study Coordinator, Nebraska-Kansas Area Office, P.O. Box 1607, Grand Island NE 68802—telephone (308) 389-4622 x214; or Maria Chastain-Brand, Project Manager-Harlan County Lake Study, U.S. Army Corps of Engineers, Kansas City District, 700 Federal Building, 601 East Twelfth Street, Kansas City MO 64106-2896—telephone (816) 983-3107.

SUPPLEMENTARY INFORMATION: Reclamation has revised the preferred alternative by modifying minimum reservoir surface elevations at Reclamation reservoirs and by implementing an agreement with the Corps on the operation of Harlan County Lake. A description of the revised preferred alternative is being distributed in the Republican River Roundup newsletter. Reclamation will not prepare a revised DEIS because the impacts associated with the modified minimum reservoir surface elevations on Reclamation reservoirs and the Harlan County Lake agreement fall within the range of those evaluated in the No Action Alternative and Reclamation's Preferred Alternative in the DEIS.

The Corps has developed a technical report addressing the potential impacts of the revised preferred alternative on Harlan County Lake. The Corps' technical report is being distributed to the contract renewal mailing list on March 22, 2000, and will be incorporated into Reclamation's Final EIS. The Corps, as a cooperating agency, will consider comments on the effects of the preferred alternative on Harlan County Lake. In addition, the Corps will prepare a separate Record of Decision (ROD) concerning the relationship of the preferred alternative to the Corps' Harlan County Lake water control manual. Both Reclamation's revised preferred alternative and the Corps' technical report can be reviewed at the locations listed below.

DEIS and Technical Report Public Inspection and Review Locations

Offices

• Bureau of Reclamation, Nebraska-Kansas Area Office, 203 West Second Street, Grand Island NE 68801—telephone (308) 389-4622.

• Bureau of Reclamation, Great Plains Regional Office, 316 North 26th Street, Billings MT 59101—telephone (406) 247-7638.

• Bureau of Reclamation, Reclamation Service Center Library, Building 67, Room 167, Denver Federal Center, Sixth and Kipling, Denver CO 80225—telephone (303) 445-2072.

• Bureau of Reclamation, Office of Policy, Room 7456, 1849 C Street NW, Washington DC 20240—telephone (202) 208-4662.

• Corps of Engineers, Kansas City District, 700 Federal Building, 601 East Twelfth Street, Kansas City, MO 64106-2896—telephone (816) 983-3107.

• Corps of Engineers, Attention: Jim Bowen, Operations Manager, Harlan County Lake, Route 1, Box 123A, Republican City NE 68971—telephone (308) 799-2105.

• Bostwick Irrigation District in Nebraska, Red Cloud NE.

• Kansas Bostwick Irrigation District No. 2, Courtland KS.

• Frenchman-Cambridge Irrigation District, Cambridge NE.

• Frenchman Valley and H&RW Irrigation District, Culbertson NE.

• Almena Irrigation District, Almena KS.

Libraries

• Alma Public Library, West Second Street, Alma NE 68920-3378.

• Blue Hill Public Library, 317 West Gage Street, Blue Hill NE 68930-2068.

• Butler Memorial Library, 621 Pennsylvania, Cambridge NE 69022.

• Franklin Public Library, 1502 P Street, Franklin NE 68939-1200.

• Hastings Public Library, 517 West Fourth Street, Hastings NE 68901-7560.

• Imperial Public Library, 703 Broadway Street, Imperial NE 69033-4017.

• Kearney Public Library, 2020 First Avenue, Kearney NE 68847-5306.

• McCook Library, 802 Norris Avenue, McCook NE 69001-3143.

• Nelson Public Library, 10 West Third Street, Nelson NE 68961-1246.

• Red Cloud Public Library, 537 North Webster Street, Red Cloud NE 68970-2421.

• Carnegie Public Library, 449 North Kansas Street, Superior NE 68978-1852.

• Trenton Village Library, 406 East First Street, Trenton NE 69044.

• Wauneta City Library, 319 North Tecumseh, Wauneta NE 69045-2011.

• Almena Public Library, 415 Main, Almena KS 67622.

• Belleville Public Library, 1327 Nineteenth Street, Belleville KS 66935.

• Courtland City Library, 403 Main Street, Courtland KS 66939.

• Northwest Kansas Library System, 2 Washington Square, Norton KS 67654.

Meeting Information

Please notify Judy O'Sullivan, Reclamation (308-389-4622, x211) or Jim Bowen, Corps, (308-799-2105) at least 1 week in advance of the scheduled hearing if you require special needs in order to participate in the public hearing. Those having special needs should contact Judy O'Sullivan at (308) 389-4622 x211 or through the Federal Relay System at (800) 877-8339 or via e-mail at “josullivan@gp.usbr.gov” or jim.d.bowen@usace.army.mil. Smoking will be prohibited in the hearing room and surrounding area.

Dated: March 16, 2000.
Fred R. Ore,
Area Manager, Nebraska-Kansas Area Office.

[FR Doc. 00-7055 Filed 3-21-00; 8:45 am]

BILLING CODE 4310-94-P